Title 3—

The President

Memorandum of December 20, 2024

Delegation of Authority Under Section 506(a)(3) of the Foreign Assistance Act of 1961

Memorandum for the Secretary of State

By the authority vested in me as President by the Constitution and the laws of the United States of America, including section 621 of the Foreign Assistance Act of 1961 (FAA), I hereby delegate to the Secretary of State the authority under section 506(a)(3) of the FAA to direct the drawdown of up to $571.3 million in defense articles and services of the Department of Defense, and military education and training, to provide assistance to Taiwan.

You are authorized and directed to publish this memorandum in the Federal Register.

THE WHITE HOUSE,

Washington, December 20, 2024

[FR Doc. 2025-00260

Filed 1-6-25; 8:45 am]

Billing code 4710-10-P